DEPARTMENT OF ENERGY

Federal Energy Regulatory Commission

Combined Notice of Filings #1

Take notice that the Commission received the following electric rate filings:

Docket Numbers: ER23-950-001.

Applicants: Macquarie Energy LLC.

Description: Tariff Amendment: Amendment to Revised Market-Based Rate Tariffs to be effective 1/28/2023.

Filed Date: 3/14/23.

Accession Number: 20230314-5073.

Comment Date: 5 p.m. ET 4/4/23.

Docket Numbers: ER23-951-001.

Applicants: Macquarie Energy Trading LLC.

Description: Tariff Amendment: Amendment to Revised Market-Based Rate Tariffs to be effective 1/28/2023.

Filed Date: 3/14/23.

Accession Number: 20230314-5076.

Comment Date: 5 p.m. ET 4/4/23.

Docket Numbers: ER23-1028-001.

Applicants: PacifiCorp.

Description: Tariff Amendment: Load Service Contract with the City of Hurricane, UT, Amendment to 2/1/23 Filing to be effective 2/1/2023.

Filed Date: 3/14/23.

Accession Number: 20230314-5067.

Comment Date: 5 p.m. ET 4/4/23.

Docket Numbers: ER23-1325-000.

Applicants: Duke Energy Indiana, LLC.

Description: § 205(d) Rate Filing: 2023 Annual Reconciliation filing—DEI Rate Schedule No. 253 to be effective 7/1/2022.

Filed Date: 3/13/23.

Accession Number: 20230313-5190.

Comment Date: 5 p.m. ET 4/3/23.

Docket Numbers: ER23-1326-000.

Applicants: PJM Interconnection, L.L.C.

Description: § 205(d) Rate Filing: Amendment to ISA & ICSA, SA Nos. 5361 & 5362; Queue No. AB2-099/AE2-346 (amend) to be effective 5/14/2023.

Filed Date: 3/14/23.

Accession Number: 20230314-5002.

Comment Date: 5 p.m. ET 4/4/23.

Docket Numbers: ER23-1327-000.

Applicants: PJM Interconnection, L.L.C.

Description: § 205(d) Rate Filing: Original ISA, SA No. 6814; Queue No. NQ-171 to be effective 2/14/2023.

Filed Date: 3/14/23.

Accession Number: 20230314-5004.

Comment Date: 5 p.m. ET 4/4/23.

Docket Numbers: ER23-1332-000.

Applicants: Northern States Power Company, a Minnesota corporation.

Description: § 205(d) Rate Filing: 2023-3-14 OTP FSA Lake Preston 729-NSP to be effective 3/15/2023.

Filed Date: 3/14/23.

Accession Number: 20230314-5034.

Comment Date: 5 p.m. ET 4/4/23.

Docket Numbers: ER23-1343-000.

Applicants: San Diego Gas & Electric Company.

Description: § 205(d) Rate Filing: Service Agreement No. 65 to be effective 3/15/2023.

Filed Date: 3/14/23.

Accession Number: 20230314-5100.

Comment Date: 5 p.m. ET 4/4/23.

Take notice that the Commission received the following electric reliability filings:

Docket Numbers: RD22-4-001.

Applicants: Registration of Inverter-based Resources.

Description: North American Electric Reliability Corporation submits Petition for Approval of Proposed Amendment to Inverter-Based Resources Work Plan and Errata to Whitepaper.

Filed Date: 3/13/23.

Accession Number: 20230313-5249.

Comment Date: 5 p.m. ET 3/20/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: March 14, 2023.
Debbie-Anne A. Reese,
Deputy Secretary.

[FR Doc. 2023-05606 Filed 3-17-23; 8:45 am]

BILLING CODE 6717-01-P